DEPARTMENT OF TRANSPORTATION

Federal Motor Carrier Safety Administration

[Docket No. FMCSA-2024-0221]

Commercial Driver's License: The Hawaii Department of Transportation (HDOT); Application for Exemption

AGENCY: Federal Motor Carrier Safety Administration (FMCSA), Department of Transportation (DOT).

ACTION: Notice of application for exemption; request for comments.

SUMMARY: FMCSA announces that the Hawaii Department of Transportation (HDOT) has applied for a limited exemption from the commercial driver's license (CDL) rules concerning acceptable proof of citizenship or lawful permanent residency for citizens of Freely Associated States (FAS) who now reside in Hawaii and wish to obtain a CDL. The FAS are the Federated States of Micronesia, the Republic of the Marshall Islands, and the Republic of Palau. If the exemption is granted, HDOT would be allowed to issue standard commercial learner permits (CLPs) and CDLs to FAS citizens, rather than issuing non-domiciled CLPs and CDLs. FMCSA requests public comment on the applicant's request and on the question of whether FMCSA should grant the exemption to all State Driver's Licensing Agencies (SDLAs).

DATES: Comments must be received on or before October 11, 2024.

ADDRESSES: You may submit comments identified by Federal Docket Management System (FDMS) Number FMCSA-2024-0221 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, Washington, DC, between 9 a.m. and 5 p.m. E.T., Monday through Friday, except Federal holidays.

• Fax: (202) 493-2251.

Each submission must include the Agency name and the docket number (FMCSA-2024-0221) for this notice. Note that DOT posts all comments received without change to www.regulations.gov, including any personal information included in a comment. Please see the Privacy Act heading below.

Docket: If you do not have access to the internet, you may view the docket by visiting Docket Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov as described in the system of records notice DOT/ALL-14 FDMS, which can be reviewed at https://www.transportation.gov/privacy. The comments are posted without edit and are searchable by the name of the submitter.

FOR FURTHER INFORMATION CONTACT: Ms. Bernadette Walker, Driver and Carrier Operations Division; Office of Carrier, Driver and Vehicle Safety Standards, FMCSA; 1200 New Jersey Avenue SE, Washington, DC 20590-0001; (202) 385-2415; Bernadette.walker@dot.gov. If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2024-0221), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2024-0221” in the “Keyword” box, and click “Search.” When the new screen appears, click on the “Comment” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analyses.

The Agency must provide an opportunity for public comment on the request. The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)).

III. Background

Under 49 CFR 383.71(b), an SDLA may issue a CDL or CLP only to an applicant who presents proof of United States citizenship or lawful permanent residency. If the applicant cannot present this proof, then the SDLA may issue the applicant a non-domiciled CDL or CPL instead, under 49 CFR 383.71(f). Thus, under 49 CFR 383.71, a citizen of an FAS, who is not a lawful permanent resident, is not eligible for a CDL or CLP and may be issued only non-domiciled credentials.

The United States' relationships with the FAS are governed by agreements known as Compacts of Free Association (COFA). Under these agreements, citizens of the FAS may enter the United States as nonimmigrants, and, without obtaining a visa, they may remain in and work in the country indefinitely.¹

¹ See H. Rept. 115-945.

Under the “REAL ID Act of 2005” ² and its accompanying regulation promulgated by the Department of Homeland Security (DHS) at 6 CFR part 37,³ REAL ID compliant States are permitted to issue REAL ID compliant driver's licenses and identification cards to certain individuals with nonimmigrant status. However, under 6 CFR 37.21(b)(1), if individuals have no end date to their authorized stay in the country, then the license or ID that is issued is valid for a maximum of one year. Because citizens of the FAS may remain in the country indefinitely, these individuals at first could be issued REAL ID driver's licenses and ID cards lasting only one year.⁴

² Public Law 109-13, Div. B, 119 Stat.” 302, May 11, 2005.

³ See 73 FR 5272 (January 29, 2008).

⁴ See 84 FR 46423 (September 4, 2019).

Subsequently, Congress enacted a modifying statute entitled the “REAL ID Act Modification for Freely Associated States Act,” ⁵ and DHS issued a corresponding amendment to its regulation. These changes permitted compliant States to issue full-term REAL ID licenses and ID cards to citizens of the FAS. When issuing this regulatory amendment, DHS also modified the identification documents that citizens of the FAS may present when applying for a REAL ID driver's license or ID card from a compliant State.⁶ Under its authority in 6 CFR 37.11(c)(1)(x), DHS stated that complying States may accept “a valid unexpired passport issued by the Republic of the Marshall Islands, the Republic of Palau, or the Federated States of Micronesia with an approved Form I-94 . . . documenting the applicant's most recent admission to the United States under the Compact of Free Association between the United States and the nation that issued the passport.” DHS further stated that its allowance of these documents was “consistent with the intent of Congress.” ⁷

⁵ Public Law 115-323. 132 Stat. 4443, Dec. 17, 2018.

⁶ See 84 FR 46556 (September 4, 2019).

⁷ Id.

Applicant's Request

HDOT seeks an exemption from the CDL “List of Acceptable Proofs of Citizenship or Lawful Permanent Residency” requirements in Table 1 to 49 CFR 383.71 for citizens of the FAS. HDOT cited in its application the REAL ID Act Modification for Freely Associated States Act, and the amended DHS regulations ensuring that citizens of the FAS residing in the United States are eligible for full-term REAL ID licenses and identification cards.

According to HDOT, “citizens of the Freely Associated States are able to meet the domicile requirement described in [49 CFR] 383.71(b)(10)” and noted that “the [COFAs] provide for citizens of the Freely Associated States to reside and work indefinitely within the United States.”

HDOT requests that FMCSA grant the proposed exemption and authorize it to issue CDLs and CLPs to citizens of the FAS in accordance with State procedures in 49 CFR 383.73(a) and (b). Ordinarily, a person who is not a United States citizen must present a valid, unexpired Permanent Resident Card. For a person who is a citizen of an FAS, HDOT would instead accept a valid, unexpired passport issued by an FAS and an Arrival/Departure Record, meaning an I-94 or I-94A form, to prove that the individual has entered the United States lawfully.

FMCSA also requests public comment on whether the exemption, if granted, should apply to all SDLAs.

A copy of the HDOT's application for exemption is available for review in the docket for this notice.

IV. Request for Comments

In accordance with 49 U.S.C. 31315(b), FMCSA requests public comment from all interested persons on HDOT's application for an exemption from the requirement in Table 1 to 49 CFR 383.71 for citizens of the FAS. FMCSA also requests public comment and on the question of whether, if granted, the exemption should apply to all SDLAs, and not just HDOT. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-20613 Filed 9-10-24; 8:45 am]

BILLING CODE 4910-EX-P